DEPARTMENT OF TRANSPORTATION

Federal Highway Administration

Environmental Impact Statement: Holt County, Missouri and Richardson County, Nebraska

AGENCY: Federal Highway Administration (FHWA), DOT.

ACTION: Notice of intent.

SUMMARY: The FHWA is issuing this notice to advise the public that an Environmental Impact Statement will be prepared for a proposed bridge project between Holt County, Missouri, and Richardson County, Nebraska.

FOR FURTHER INFORMATION CONTACT: Mr. Edward Kosola, Realty Officer, Federal Highway Administration, Federal Building, Room 220, 100 Centennial Mall North, Lincoln, Nebraska 68508, Telephone: (402) 437-5521. Mr. Arthur Yonkey, Project Development Engineer, Nebraska Department of Roads, P.O. Box 94759, Lincoln, Nebraska 68509, Telephone: (402) 479-4795. Ms. Renate A. Wilkinson, Transportation Planning Manager, Missouri Department of Transportation, Northwest District, 3602 North Belt Highway, P.O. Box 287, St. Joseph, Missouri 64502, Telephone: (816) 387-2434.

SUPPLEMENTARY INFORMATION: The FHWA, in cooperation with the Nebraska Department of Roads, and the Missouri Department of Transportation, will prepare an Environmental Impact Statement (EIS) for a proposal to construct a bridge over the Missouri River. The proposed project would connect Holt County, Missouri and Richardson County, Nebraska, in the vicinity of Rulo, Nebraska.

Alternatives under consideration include: (1) taking no action; (2) replacing the US-159 Bridge on the existing alignment; and (3) providing a new crossing downstream from the existing alignment.

The Rulo Bridge (Highway US-159 Bridge) has been listed on the National Register of Historic Places. The existing bridge is composed of 10 steel, riveted, Warren deck truss approaches (5 on each end of the bridge), and 3 steel, 8-panel, riveted Pennsylvania through trusses.

An agency scoping meeting is planned for May 1, 2001 and a public scoping/information meeting is planned. A Draft EIS will be prepared and a public hearing will be held. Public notice will be given of the public scoping/information meeting and public hearing.

To ensure that the full range of issues related to this proposed action are addressed and all significant issues identified, comments and suggestions are invited from all interested parties. Comments or questions concerning this proposed action and the EIS should be directed to the FHWA or the Nebraska Department of Roads at the address provided.

(Catalog of Federal Domestic Assistance Project 20.205, Highway Planning and Construction. The regulations implementing Executive Order 12372 regarding intergovernmental consultation of Federal programs and activities apply to this program.)

Issued on April 20, 2001.
Edward Kosola,
Realty Officer, Nebraska Division, Federal Highway Administration, Lincoln, Nebraska.

[FR Doc. 01-10468 Filed 4-26-01; 8:45 am]

BILLING CODE 4910-22-M